ENVIRONMENTAL PROTECTION AGENCY

40 CFR Part 271

[EPA-R03-RCRA-2009-0196; FRL-8906-7]

Pennsylvania: Final Authorization of State Hazardous Waste Management Program Revisions

AGENCY: Environmental Protection Agency (EPA).

ACTION: Proposed rule: Correction.

SUMMARY: The Environmental Protection Agency published in the Federal Register of April 29, 2009 (74 FR 19480), a document concerning Pennsylvania's Final Authorization of State Hazardous Waste Management Program Revisions. This document corrects the Docket Number.

FOR FURTHER INFORMATION CONTACT: Charles Bentley, Mailcode 3LC50, Office of State Programs, U.S. EPA Region III, 1650 Arch Street, Philadelphia, PA 19103-2029, Phone number: (215) 814-3379.

SUPPLEMENTARY INFORMATION:

Correction

In the Federal Register of April 29, 2009 in FR Doc. E9-9790, on page 19480, the following corrections are made:

1. In the Heading of the document, the Docket Number is corrected to read “EPA-R03-RCRA-2009-0196”.

2. In the sentence following “ADDRESSES:” in the second column, the docket number is corrected to read “EPA-R03-RCRA-2009-0196”.

3. In the sentence following “Instructions:” in the third column, the docket number is corrected to read “EPA-R03-RCRA-2009-0196”.

Dated: May 7, 2009.
William C. Early,
Acting Regional Administrator, EPA Region III.

[FR Doc. E9-11655 Filed 5-18-09; 8:45 am]

BILLING CODE 6560-50-P